DEPARTMENT OF THE INTERIOR

National Park Service

[N6928; NPS-WASO-NAGPRA-NPS0041999; PPWOCRADN0-PCU00RP14.R50000]

Notice of Inventory Completion: Sam Noble Oklahoma Museum of Natural History, University of Oklahoma, Norman, OK

AGENCY: National Park Service, Interior.

ACTION: Notice.

SUMMARY: In accordance with the Native American Graves Protection and Repatriation Act (NAGPRA), the Sam Noble Oklahoma Museum of Natural History (SNOMNH) has completed an inventory of human remains and associated funerary objects and has determined that there is a cultural affiliation between the human remains and associated funerary objects and Indian Tribes or Native Hawaiian organizations in this notice.

DATES: Repatriation of the human remains and associated funerary objects in this notice may occur on or after March 13, 2026.

ADDRESSES: Send written requests for repatriation of the human remains and associated funerary objects in this notice to Chelsea Rose, Interim NAGPRA Program Coordinator, Sam Noble Oklahoma Museum of Natural History, 2401 Chautauqua Avenue, Norman, OK 73072, email chelsea.rose@ou.edu.

SUPPLEMENTARY INFORMATION: This notice is published as part of the National Park Service's administrative responsibilities under NAGPRA. The determinations in this notice are the sole responsibility of the SNOMNH, and additional information on the determinations in this notice, including the results of consultation, can be found in its inventory or related records. The National Park Service is not responsible for the determinations in this notice.

Abstract of Information Available

Human remains representing, at least, one individual have been identified from site 34LF22 in LeFlore County, Oklahoma; the lots of associated funerary objects listed below are not associated with this individual. One lot of lithics and one lot of faunal remains from 34LF22 have also been identified. These lots of objects are in addition to the group of associated funerary objects previously identified in a Notice of Inventory Completion published in the Federal Register on July 1, 2024 (89 FR 54499-54501) for 34LF22.

One lot of associated funerary objects (beads) from site 34LF38 in LeFlore Co., Oklahoma has been identified. This object is in addition to the group of associated funerary objects previously identified in a Notice of Inventory Completion published in the Federal Register on June 27, 2025 (90 FR 27673) for 34LF38.

One lot of associated funerary objects (pots-various temper) from site 34LF75 in LeFlore Co., Oklahoma has been identified. This lot of objects is in addition to the group of association funerary objects previously identified in a Notice of Inventory Completion published in the Federal Register on December 9, 2022 (87 FR 75655) for 34LF75.

One lot of associated funerary objects (pots-various temper) from site 34LF77 in LeFlore Co., Oklahoma has been identified. This lot of objects is in addition to the group of association funerary objects previously identified in a Notice of Inventory Completion published in the Federal Register on December 9, 2022 (87 FR 75655) for 34LF77.

One lot of associated funerary objects (pots) from site 34MC6 in McCurtain Co., Oklahoma has been identified. This object is in addition to the group of associated funerary objects previously identified in a Notice of Inventory Completion published in the Federal Register on December 19, 2023 (88 FR 87810) for 34MC6.

To our knowledge, no potentially hazardous substances were used to treat the human remains or associated funerary objects. Through tribal consultation, the individual and additional associated funerary objects were identified as culturally affiliated with the Caddo Nation of Oklahoma and the Wichita and Affiliated Tribes (Wichita, Keechi, Waco, & Tawakonie), Oklahoma.

Cultural Affiliation

Based on the information available and the results of consultation, cultural affiliation is clearly identified by the information available about the human remains and associated funerary objects described in this notice.

Determinations

The SNOMNH has determined that:

• The human remains described in this notice represent the physical remains of one individual of Native American ancestry.

• The six lots of objects described in this notice are reasonably believed to have been placed intentionally with or near individual human remains at the time of death or later as part of the death rite or ceremony.

• There is a connection between the human remains and associated funerary objects described in this notice and the Caddo Nation of Oklahoma and the Wichita and Affiliated Tribes (Wichita, Keechi, Waco, & Tawakonie), Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after March 13, 2026. If competing requests for repatriation are received, the SNOMNH must determine the most appropriate requestor prior to repatriation. Requests for joint repatriation of the human remains and associated funerary objects are considered a single request and not competing requests. The SNOMNH is responsible for sending a copy of this notice to the Indian Tribes and Native Hawaiian organizations identified in this notice and any other consulting parties.

Authority: Native American Graves Protection and Repatriation Act, 25 U.S.C. 3003, and the implementing regulations, 43 CFR 10.10.

Dated: February 4, 2026.
Melanie O'Brien,
Manager, National NAGPRA Program.

[FR Doc. 2026-02711 Filed 2-10-26; 8:45 am]

BILLING CODE 4312-52-P